NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 21, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too, includes information about the records. Further information about the disposition process is available on request.

Schedules Pending

1. Department of Agriculture, Animal and Plant Health Inspection Service (N1-463-98-3, 3 items, 3 temporary items). Applications and related records pertaining to obtaining agency recognition as an approved stockyard for swine and cattle, including electronic copies of documents created using electronic mail and word processing.

2. Department of the Army, Agency-wide (N1-AU-00-5, 3 items, 3 temporary items). Records relating to Army law library services and the continuing legal education of Judge Advocate officers. Library records include publication account inventories, surveys, and purchase orders. Continuing legal education files include correspondence, surveys, and recertification documentation. Also included are electronic copies of documents created using electronic mail and word processing.

3. Department of the Army, Agency-wide (N1-AU-98-7, 2 items, 2 temporary items). Reports and other records pertaining to the inspection and testing of grounding systems at ammunition and explosives facilities to protect against lightening strikes and power surges. Included are electronic copies of documents created using electronic mail and word processing.

4. Department of Defense, Office of the Secretary of Defense (N1-330-00-1, 1 item, 1 temporary item). Elementary school student record files pertaining to pupils in Defense Department schools. Files contain documents on enrollment, registration, achievement test results, and grades. This schedule reduces the retention period for these records, which were previously approved for disposal.

5. Department of Defense, Defense Contract Audit Agency (N1-372-00-1, 4 items, 4 temporary items). Quality assurance records relating to audit management activities implemented to ensure that appropriate audit standards, policies, and procedures have been adopted and followed. Included are electronic copies of records created using electronic mail and word processing. This schedule also authorizes the agency to apply the proposed disposition instructions to any recordkeeping medium.

6. Department of Defense, Defense Contract Audit Agency (N1-372-00-2, 5 items, 4 temporary items). Agency corres-pondence with individual members of Congress concerning letters from their constituents and other inquiries not relating to congressional committees. Included are electronic copies of records created using electronic mail and word processing. This schedule also authorizes the agency to apply the disposition instructions proposed for temporary records to any recordkeeping medium. Also proposed are minor changes in the disposition instructions for correspondence with congressional committees, which was previously approved for permanent retention.

7. Department of Defense, National Imagery and Mapping Agency (N1-537-00-1, 149 items, 149 temporary items). Records relating to security matters. Records pertain to such subjects as the protection of classified information and facilities, security violations, security surveys and inspections, release of security classified information, security policy, communications security, the issuance of identification cards and badges, vehicle registration, counterintelligence, and personnel security. Also included are electronic copies of documents created using electronic mail and word processing.

8. Department of Justice, Federal Bureau of Prisons (N1-129-00-5, 5 items, 5 temporary items). Records relating to the maintenance and inspection of agency facilities. Included are such records as inspection reports, log books, work orders, and electronic copies of documents created using electronic mail and word processing.

9. Department of Justice, Justice Management Division (N1-60-00-6, 5 items, 1 temporary item). Photographs of routine events, such as employee award ceremonies and retirement parties, and photographic portraits of agency personnel other than top-level officials. Proposed for permanent retention are photographs relating to the Attorney General and to significant events and activities as well as a commemorative photo album relating to Attorney General Robert F. Kennedy.

10. Department of Justice, Immigration and Naturalization Service (N1-85-00-1, 2 items, 2 temporary items). Fingerprint tracking system database records and computer tapes used for the inter-agency transfer of fingerprint information. Data in the system includes name, date and place of birth, and other information concerning aliens who are required to submit fingerprints as well as such information as date fingerprints were submitted to the Federal Bureau of Investigation and type of response provided by the FBI.

11. Department of Health and Human Services, Administration for Children and Families (N1-292-99-1, 2 items, 2 temporary items). Administrative files of the Preschool Education Program, dating from 1969-1970, that consist of travel orders, requests for information, trip reports, hotel reservations, conference schedules, and related correspondence. Also included are statistical printouts of the Refugee Resettlement Program, dating from 1987-1989, that contain incomplete demographic data. These printouts were created from a database that is already in the National Archives.

12. Department of Health and Human Services, Health Resources and Services Administration (N1-512-00-1, 10 items, 7 temporary items). Older records accumulated by the Health Resources and Services Administration, 1964-1976. Included are such records as questionnaires, requests for information, thank-you letters, personal health surveys, teeth charts, x-ray files, grant proposals, follow-up reports, evaluations of technical proposals, financial data, personnel folders, and administrative planning files. Records proposed for permanent retention include subject files of the director of the Office of Family Benefits Planning, subject files of the director of the National Center for Health Services Research, and files relating to activities of the U.S. National Committee on Vital and National Health Statistics.

13. Department of Labor, Office of Inspector General (N1-174-00-2, 10 items, 10 temporary items). Formal case files and a related case file tracking system, notations and logs of telephone calls received on the Inspector General's Fraud, Waste and Abuse Hotline, correspondence containing anonymous or vague allegations, and electronic copies of records created using electronic mail and word processing. Summaries of important cases and information concerning other significant activities are included in the Inspector General's Semiannual Report to the Congress, which was previously approved for permanent retention.

14. Department of the Treasury, Internal Revenue Service (N1-58-00-2, 2 items, 2 temporary items). Paper copies of the quarterly report submitted to Congress concerning century date change activities. Reports include information on project status, conversion strategies, and the cost in funds and staff time. Also included are electronic copies of records created using electronic mail and word processing.

15. Federal Energy Regulatory Commission, Office of General Counsel (N1-138-98-15, 3 items, 3 temporary items). Reports and related records documenting deviations from established standards of conduct by transmission providers occurring during an emergency. Included are electronic copies of documents created using electronic mail and word processing.

16. Federal Energy Regulatory Commission, Office of Chief Accountant (N1-138-98-17, 6 items, 6 temporary items). Requests for approval by the Chief Accountant for variations in accounting procedures and records retention (AC dockets) and requests for Commission approval of changes in depreciation rates (DR dockets). AC dockets include requests for accounting/journal entries for losses and related taxes, extensions of time for filing submissions, and files documenting records retention and disposal actions. DR dockets include petitions requesting changes in depreciation rates retained for accounting purposes only. Also included are electronic copies of documents created using electronic mail and word processing that relate to both AC and DR dockets.

17. Federal Energy Regulatory Commission, Office of Electric Power Regulation (N1-138-98-6, 10 items, 10 temporary items). Docket case files related to transmission service, stranded cost recovery, declaration of non-jurisdictional status, and applications for exempt wholesale generator status. Case files include complaints, statements of positions, motions to intervene, requests and petitions, briefs, testimony and exhibits, and related documents. Docket sheets and agency compilations of formal documents were previously approved for permanent retention.

18. Kahoolawe Island Conveyance Commission, Agency-wide (N1-220-00-2, 16 items, 8 temporary items). Paper copies of agendas and minutes, reports, public hearing summaries, testimony, public hearing transcripts, legislative files, correspondence, and publications are proposed for disposal as is a duplicate video recording. The original copy of this video recording and microfilm copies of paper files are proposed for permanent retention in the National Archives. Records proposed for disposal will be transferred to the archives of the State of Hawaii.

19. National Archives and Records Administration, Information Security Oversight Office (N1-64-00-3, 6 items, 3 temporary items). Working papers compiled during the drafting of the office's Annual Report to the President. Also included are electronic copies of documents created using electronic mail and word processing that relate to annual reports and the office's oversight of government-wide information security programs. Proposed for permanent retention are recordkeeping copies of Annual Reports to the President and files relating to executive branch information security programs.

20. Nuclear Regulatory Commission, Office of Human Resources (N1-431-00-15, 43 items, 31 temporary items). Electronic records in the Commission's Agency-wide Document Access and Management System (ADAMS) accumulated by the Office of Human Resources, including electronic copies of records created using office automation tools and of records used to create ADAMS portable document format files. The electronic recordkeeping copies of case files that document the resolution of differing professional views are proposed for disposal along with paper copies of these records that pre-date ADAMS. Also proposed for disposal are electronic recordkeeping copies of such records as committee and conference files that pertain to committees and conferences for which NRC is not the sponsor, subject files accumulated below the office director level, routine correspondence files, and training aids acquired from private institutions or other agencies. Paper copies of these records were previously approved for disposal. Paper copies of awards files, excluding those filed in official personnel folders, are also proposed for disposal. Series proposed for permanent retention include electronic recordkeeping copies of awards files accumulated at the Commission level, records of committees and conferences for which NRC is the sponsor, differing professional opinion files, subject files accumulated at the office director level, and training aids developed by the Commission. This schedule also proposes minor changes in the disposition instructions for paper copies of committee and conference records, which were previously scheduled.

21. Nuclear Regulatory Commission, Atomic Safety and Licensing Board Panel (N1-431-00-16, 44 items, 34 temporary items). Electronic records in the Commission's Agency-wide Document Access and Management System (ADAMS) accumulated by the Atomic Safety and Licensing Board Panel (ASLBP), including electronic copies of records created using office automation tools and of records used to create ADAMS portable document format files. Proposed for disposal are electronic recordkeeping copies of such records as advisory screening committee consultant personnel files, records of committees and conferences for which NRC is not the sponsor, subject files accumulated below the office director level, routine correspondence files, monthly status reports to Commissioners, power reactor license docket files, and transcripts of ASLBP hearings. Paper copies of these records were previously approved for disposal. Series proposed for permanent retention include electronic recordkeeping copies of records related to committees and conferences for which NRC is the sponsor, subject files accumulated at the office director level, memoranda to panel board members, technical memos, and regulatory history files for proposed and final rulemaking.

22. Nuclear Regulatory Commission, Office of the Chief Information Officer (N1-431-00-17, 67 items, 51 temporary items). Electronic records in the Commission's Agency-wide Document Access and Management System (ADAMS) accumulated by the Chief Information Officer, including electronic copies of records created using office automation tools and of records used to create ADAMS portable document format files. Record materials associated with ADAMS legacy libraries in all media are proposed for disposal as are duplicate reference files of the Public Document Room, ADAMS Publicly Available Records System (PARS) Library records, and records associated with the Nuclear Documents System (NUDOCS). Electronic recordkeeping copies of annual reports to the Attorney General on the Freedom of Information Act are proposed for disposal as are paper copies of these records that pre-date ADAMS. Other files proposed for disposal include records of committees and conferences for which NRC is not the sponsor, working papers and background materials associated with forms files, subject files accumulated below the office director level, routine correspondence files, the electronic final copies of graphic art products, half-tone negatives and camera-ready copy, and publication working papers. Paper copies of these records were previously approved for disposal. Series proposed for permanent retention include electronic recordkeeping copies of records related to committees and conferences for which NRC is the sponsor, subject files accumulated at the office director level, posters distributed agency-wide or to the public, copies of all publications, and regulatory history files. This schedule also proposes minor changes in the disposition instructions for paper copies of committee and conference records, which were previously scheduled.

23. Nuclear Regulatory Commission, Office of General Counsel (N1-431-00-18, 71 items, 59 temporary items). Electronic records in the Commission's Agency-wide Document Access and Management System (ADAMS) accumulated by the General Counsel, including electronic copies of records created using office automation tools and of records used to create ADAMS portable document format files. Records proposed for disposal include electronic recordkeeping copies of records related to committees and conferences for which NRC is not the sponsor, subject files accumulated below the office director level, routine correspondence files, licensing docket formal hearing files, and patent and technical data files. Paper copies of these records were previously approved for disposal. Paper copies of conflict of interest files and personal opinion files are also proposed for disposal. Series proposed for permanent retention include electronic recordkeeping copies of Commission memorandum files, records of committees and conferences for which NRC is the sponsor, subject files accumulated at the office director level, legislative files, litigation case files, and regulatory history files.

24. Nuclear Regulatory Commission, Office of Nuclear Regulatory Research (N1-431-00-19, 99 items, 67 temporary items). Electronic records in the Commission's Agency-wide Document Access and Management System (ADAMS) accumulated by the Office of Nuclear Regulatory and Research, including electronic copies of records created using office automation tools and of records used to create ADAMS portable document format files. Records proposed for disposal include electronic recordkeeping copies of records related to committees and conferences for which NRC is not the sponsor, subject files accumulated below the office director level, routine correspondence files, grants case files, unsuccessful grant applications, grant administrative files, nuclear safety standards program files accumulated in connection with the development of standards and guides, personnel monitoring reports and overexposure reports that have been entered into the Radiation Exposure Information System (REIRS), rejected research project proposals, research program files at and below the division level, and all other research project case files not identified as permanent. Paper copies of these records were previously approved for disposal. Series proposed for permanent retention include electronic recordkeeping copies of records related to abnormal occurrence case files, case study report files, formal arrangement and agreement files, program correspondence files accumulated at the office director level, final products related to grants files, nuclear safety standards and guides, personnel monitoring reports and overexposure reports not placed on REIRS, REIRS system programming and documentation, regulatory history files for proposed and final rulemaking, research program files accumulated at the office director level, scientific and technical reports, and research project case files deemed by NRC or NARA to have exceptional value.

25. Tennessee Valley Authority, Engineering Services (N1-142-98-2, 10 items, 6 temporary items). Correspondence files documenting routine administrative functions such as budget and finance, equipment and supplies, training and staff development, and warehousing. Included are electronic copies of documents created using electronic mail and word processing. Correspondence files documenting substantive program policy and planning matters are proposed for permanent retention. These include files on organization and management and systems engineering.

26. Tennessee Valley Authority, Fossil and Hydro Power (N1-142-98-8, 2 items, 2 temporary items). General procedures for plant operations, including maintenance, safety, environmental, and administrative requirements, and similar procedures specific to individual agency sites. This schedule provides for the disposal of both paper copies of these records as well as electronic copies maintained in an agency-wide document management system.

27. Tennessee Valley Authority, Water Management (N1-142-97-16, 17 items, 17 temporary items). Environmental chemistry laboratory procedures and analysis records relating to the testing of water samples. Included are files on standardized procedures, laboratory notebooks, raw data analyses, reports to clients, and electronic systems and related files used to record the results of tests and monitor instruments and equipment.

Dated: March 1, 2000.
Michael J. Kurtz,
Assistant Archivist for Record Services—Washington, DC.

[FR Doc. 00-5484 Filed 3-6-00; 8:45 am]

BILLING CODE 7515-01-P